FEDERAL COMMUNICATIONS COMMISSION

47 CFR Part 51

[WC Docket No. 17-84; FCC 18-74]

Accelerating Wireline Broadband Deployment by Removing Barriers to Infrastructure Investment

AGENCY: Federal Communications Commission.

ACTION: Final rule; announcement of effective date.

SUMMARY: In this document, the Commission announces that the Office of Management and Budget (OMB) has approved, for a period of three years, the information collection associated with the Commission's discontinuance rules. This document is consistent with the Accelerating Wireline Broadband Deployment by Removing Barriers to Infrastructure Investment Second Report and Order, FCC 18-74, which stated that the Commission would publish a document in the Federal Register announcing the effective date of those rules.

DATES: The amendments to 47 CFR 51.333(g)(l)(i) and (iii) and (g)(2), published at 83 FR 31659, July 9, 2018, are effective on December 26, 2018.

FOR FURTHER INFORMATION CONTACT: Michele Levy Berlove, Special Counsel, Wireline Competition Bureau, at (202) 418-1477, or by email at Michele.Berlove@fcc.gov.

For additional information concerning the Paperwork Reduction Act information collection requirements, contact Nicole Ongele at (202) 418-2991 or nicole.ongele@fcc.gov.

SUPPLEMENTARY INFORMATION: This document announces that, on December 6, 2018, OMB approved, for a period of three years, the information collection requirements relating to the network change disclosure rules contained in the Commission's Accelerating Wireline Broadband Deployment by Removing Barriers to Infrastructure Investment Second Report and Order, FCC 18-74, published at 83 FR 31659, July 9, 2018.

The OMB Control Number is 3060-0741. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-0741, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on December 6, 2018, for the information collection requirements contained in the modifications to the Commission's rules in 47 CFR part 51.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0741.

The foregoing notice is required by the Paperwork Reduction Act of 1995, Public Law 104-13, October 1, 1995, and 44 U.S.C. 3507.

The total annual reporting burdens and costs for the respondents are as follows:

OMB Control Number: 3060-0741.

OMB Approval Date: December 6, 2018.

OMB Expiration Date: December 31, 2021.

Title: Accelerating Wireline Broadband Deployment by Removing Barriers to Infrastructure Investment, GN Docket No. 17-84.

Form Number: N/A.

Respondents: Business or other for-profit entities.

Number of Respondents and Responses: 5,357 respondents; 573,928 responses.

Estimated Time per Response: 0.5-4.5 hours.

Frequency of Response: On occasion reporting requirements; recordkeeping; third party disclosure requirements.

Obligation to Respond: Required to obtain or retain benefits. Statutory authority is contained in 47 U.S.C. 222 and 251.

Total Annual Burden: 575,448 hours.

Total Annual Cost: No cost(s).

Privacy Act Impact Assessment: No impact(s).

Nature and Extent of Confidentiality: The Commission is not requesting that the respondents submit confidential information to the FCC. Respondents may, however, request confidential treatment for information they believe to be confidential under 47 CFR 0.459 of the Commission's rules.

Needs and Uses: The Commission is not requesting that the respondents submit confidential information to the FCC. Respondents may, however, request confidential treatment for information they believe to be confidential under 47 CFR 0.459 of the Commission's rules.

Needs and Uses: Section 251 of the Communications Act of 1934, as amended, 47 U.S.C. 251, is designed to accelerate private sector development and deployment of telecommunications technologies and services by spurring competition. Section 222(e) is also designed to spur competition by prescribing requirements for the sharing of subscriber list information. These information collection requirements are designed to help implement certain provisions of sections 222(e) and 251, and to eliminate operational barriers to competition in the telecommunications services market. Specifically, these information collection requirements will be used to implement (1) local exchange carriers' (“LECs”) obligations to provide their competitors with dialing parity and non-discriminatory access to certain services and functionalities; (2) incumbent local exchange carriers' (“ILECs”) duty to make network information disclosures; and (3) numbering administration. The revisions to this collection relate to changes in one of many components of the currently approved collection—specifically, certain reporting, recordkeeping and/or third-party disclosure requirements under section 251(c)(5). In November 2017, the Commission adopted new rules concerning certain information collection requirements implemented under section 251(c)(5) of the Act, pertaining to network change disclosures. Most of the changes to those rules applied specifically to a certain subset of network change disclosures, namely notices of planned copper retirements. In addition, the changes removed a rule that prohibits incumbent LECs from engaging in useful advanced coordination with entities affected by network changes. In June 2018, the Commission revised its network change disclosure rules to (1) revise the types of network changes that trigger an incumbent LEC's public notice obligation, and (2) extend the force majeure provisions applicable to copper retirements to all types of network changes. The changes are aimed at removing unnecessary regulatory barriers to the deployment of high-speed broadband networks. The Commission estimates that these revisions do not result in any change to the total annual burden hours or any additional outlays of funds for hiring outside contractors or procuring equipment as the changes eliminate notices that are subsumed by notice obligations that remain in force or simply codify procedures available to a small number of incumbent LECs by waiver orders.

Federal Communications Commission.
Marlene Dortch,
Secretary, Office of the Secretary.

[FR Doc. 2018-27834 Filed 12-21-18; 8:45 am]

BILLING CODE 6712-01-P